SMALL BUSINESS ADMINISTRATION

[Disaster Declaration # 14299 and # 14300]

Kentucky Disaster Number KY-00052

AGENCY: U.S. Small Business Administration.

ACTION: Amendment 1.

SUMMARY: This is an amendment of the Presidential declaration of a major disaster for Public Assistance Only for the Commonwealth of Kentucky (FEMA-4217-DR), dated 05/01/2015.

Incident: Severe Storms, Tornadoes, Flooding, Landslides, and Mudslides.

Incident Period: 04/02/2015 through 04/17/2015.

Effective Date: 05/21/2015.

Physical Loan Application Deadline Date: 06/30/2015.

Economic Injury (EIDL) Loan Application Deadline Date: 02/01/2016.

ADDRESSES: Submit completed loan applications to:

U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of KENTUCKY, dated 05/01/2015, is hereby amended to include the following areas as adversely affected by the disaster.

Primary Counties: Carter; Floyd; Lincoln; Nicholas; Owen; Pike; Spencer; Whitley.

All other information in the original declaration remains unchanged.

(Catalog of Federal Domestic Assistance Numbers 59002 and 59008)

James E. Rivera,
Associate Administrator for Disaster Assistance.

[FR Doc. 2015-13362 Filed 6-1-15; 8:45 am]

BILLING CODE 8025-01-P